CONSUMER PRODUCT SAFETY COMMISSION

Petition Requesting Ban of All-Terrain Vehicles Sold for Use by Children Under 16 Years Old

AGENCY: Consumer Product Safety Commission.

ACTION: Notice.

SUMMARY: The Commission has received a petition (CP-02-4/ HP-02-1) requesting that the Commission ban the sale of adult-size four wheel all-terrain vehicles (“ATVs”) sold for the use of children under 16 years of age. The Commission solicits written comments concerning the petition.

DATES: The Office of the Secretary must receive comments on the petition by December 17, 2002.

ADDRESSES: Comments, preferably in five copies, on the petition should be mailed to the Office of the Secretary, Consumer Product Safety Commission, Washington, DC 20207, telephone (301) 504-0800, or delivered to the Office of the Secretary, Room 501, 4330 East-West Highway, Bethesda, Maryland 20814. Comments may also be filed by telefacsimile to (301) 504-0127 or by e-mail to cpsc-os@cpsc.gov. Comments should be captioned “Petition CP-02-4/HP-02-1, Petition on ATVs.” A copy of the petition is available for inspection at the Commission's Public Reading Room, Room 419, 4330 East-West Highway, Bethesda, Maryland.

FOR FURTHER INFORMATION CONTACT: Rockelle Hammond, Office of the Secretary, Consumer Product Safety Commission, Washington, DC 20207; telephone (301) 504-0800, ext. 1232.

SUPPLEMENTARY INFORMATION: The Commission has received correspondence from Consumer Federation of America (“CFA”) and other groups ¹ requesting that the Commission take several actions concerning all-terrain vehicles (“ATVs”). The Commission is docketing their request for a ban of the sale of adult-size four wheel ATVs sold for the use of children under 16 as a petition under the Consumer Product Safety Act, 15 U.S.C. 2057, and the Federal Hazardous Substances Act, 15 U.S.C. 1261(q)(1)(A). The petitioners assert that ATVs pose an unreasonable risk of injury and death to children. They cite Commission data that between 1982 and 2001 there were reports of 4,541 ATV-related deaths, and that 1,714 (or 38%) of those deaths were children under 16 years old. They also note that in the year 2001, there were 111,700 people taken to emergency rooms for ATV-related injuries, of which 34,800 were under 16 years old. They argue that there is no feasible standard that would address the risks ATVs pose to children.

¹ The other groups are the American Academy of Pediatrics, the American College of Emergency Physicians, Bluewater Network, the Center for Injury Research and Policy, the Danny Foundation for Crib and Child Product Safety, Kids in Danger, National Association of Orthopaedic Nurses, and U.S. PIRG.

Interested parties may obtain a copy of the petition by writing or calling the Office of the Secretary, Consumer Product Safety Commission, Washington, DC 20207; telephone (301) 504-0800. Copies of the petition are also available for inspection from 8:30 a.m. to 5 p.m., Monday through Friday, in the Commission's Public Reading Room, Room 419, 4330 East-West Highway, Bethesda, Maryland.

Dated: October 10, 2002.
Todd Stevenson,
Secretary, Consumer Product Safety Commission.

[FR Doc. 02-26458 Filed 10-17-02; 8:45 am]

BILLING CODE 6355-01-P